DEPARTMENT OF ENERGY

Federal Energy Regulatory Commission

[Docket Nos. ID-3780-001, et al.]

Johnson, Lisa D., et al.; Electric Rate and Corporate Filings

September 28, 2006.

The following filings have been made with the Commission. The filings are linked in ascending order within each classification.

1. Johnson, Lisa D.

[Docket No. ID-3780-001]

Take notice that on September 26, 2006, Lisa D. Johnson filed an application for authority to hold interlocking directorate positions pursuant to section 305(b) of the Federal Power Act, Part 45.8 of the Commission's Rules of Practice and Procedure and Order No. 664.

Comment Date: 5 p.m. Eastern Time on October 26, 2006.

2. Widdowson, Carl R.

[Docket No. ID-5061-000]

Take notice that on September 26, 2006, Carl R. Widdowson filed an application for authority to hold interlocking directorate positions pursuant to section 305(b) of the Federal Power Act, Part 45.8 of the Commission's Rules of Practice and Procedure and Order No. 664.

Comment Date: 5 p.m. Eastern Time on October 26, 2006.

3. Henry, Bruce A.

[Docket No. ID-5062-000]

Take notice that on September 26, 2006, Bruce A. Henry filed an application for authority to hold interlocking directorate positions pursuant to section 305(b) of the Federal Power Act, Part 45.8 of the Commission's Rules of Practice and Procedure and Order No. 664.

Comment Date: 5 p.m. Eastern Time on October 26, 2006.

4. Feuerberg, Stanley C.

[Docket No. ID-5063-000]

Take notice that on September 26, 2006, Stanley C. Feuerberg filed an application for authority to hold interlocking directorate positions pursuant to section 305(b) of the Federal Power Act, Part 45.8 of the Commission's Rules of Practice and Procedure and Order No. 664.

Comment Date: 5 p.m. Eastern Time on October 26, 2006.

5. Farmer, Kent D.

[Docket No. ID-5064-000]

Take notice that on September 26, 2006, Kent D. Farmer filed an application for authority to hold interlocking directorate positions pursuant to section 305(b) of the Federal Power Act, Part 45.8 of the Commission's Rules of Practice and Procedure and Order No. 664.

Comment Date: 5 p.m. Eastern Time on October 26, 2006.

6. Chappell, Glenn F.

[Docket No. ID-5065-000]

Take notice that on September 26, 2006, Glenn F. Chappell filed an application for authority to hold interlocking directorate positions pursuant to section 305(b) of the Federal Power Act, Part 45.8 of the Commission's Rules of Practice and Procedure and Order No. 664.

Comment Date: 5 p.m. Eastern Time on October 26, 2006.

7. White, Gregory W.

[Docket No. ID-5066-000]

Take notice that on September 26, 2006, Gregory W. White filed an application for authority to hold interlocking directorate positions pursuant to section 305(b) of the Federal Power Act, Part 45.8 of the Commission's Rules of Practice and Procedure and Order No. 664.

Comment Date: 5 p.m. Eastern Time on October 26, 2006.

8. Tankard, Philip B.

[Docket No. ID-5067-000]

Take notice that on September 26, 2006, Philip B. Tankard filed an application for authority to hold interlocking directorate positions pursuant to section 305(b) of the Federal Power Act, Part 45.8 of the Commission's Rules of Practice and Procedure and Order No. 664.

Comment Date: 5 p.m. Eastern Time on October 26, 2006.

9. Rummel, Myron D.

[Docket No. ID-5068-000]

Take notice that on September 26, 2006, Myron D. Rummel filed an application for authority to hold interlocking directorate positions pursuant to section 305(b) of the Federal Power Act, Part 45.8 of the Commission's Rules of Practice and Procedure and Order No. 664.

Comment Date: 5 p.m. Eastern Time on October 26, 2006.

10. Longshore, M. Larry

[Docket No. ID-5069-000]

Take notice that on September 26, 2006, M. Larry Longshore filed an application for authority to hold interlocking directorate positions pursuant to section 305(b) of the Federal Power Act, Part 45.8 of the Commission's Rules of Practice and Procedure and Order No. 664.

Comment Date: 5 p.m. Eastern Time on October 26, 2006.

11. King, Bruce M.

[Docket No. ID-5070-000]

Take notice that on September 26, 2006, Bruce M. King filed an application for authority to hold interlocking directorate positions pursuant to section 305(b) of the Federal Power Act, Part 45.8 of the Commission's Rules of Practice and Procedure and Order No. 664.

Comment Date: 5 p.m. Eastern Time on October 26, 2006.

12. Kees, Robert L.

[Docket No. ID-5071-000]

Take notice that on September 26, 2006, Robert L. Kees filed an application for authority to hold interlocking directorate positions pursuant to section 305(b) of the Federal Power Act, Part 45.8 of the Commission's Rules of Practice and Procedure and Order No. 664.

Comment Date: 5 p.m. Eastern Time on October 26, 2006.

13. Jones, David J.

[Docket No. ID-5072-000]

Take notice that on September 26, 2006, David J. Jones filed an application for authority to hold interlocking directorate positions pursuant to section 305(b) of the Federal Power Act, Part 45.8 of the Commission's Rules of Practice and Procedure and Order No. 664.

Comment Date: 5 p.m. Eastern Time on October 26, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-16342 Filed 10-3-06; 8:45 am]

BILLING CODE 6717-01-P